DEPARTMENT OF HOMELAND SECURITY

Coast Guard

33 CFR Part 117

[Docket No. USCG-2013-1081]

Drawbridge Operation Regulation; Inner Harbor Navigation Canal, New Orleans, LA

AGENCY: Coast Guard, DHS.

ACTION: Notice of deviation from drawbridge regulation.

SUMMARY: The Coast Guard has issued a temporary deviation from the operating schedule that governs the L & N Railroad/Almonaster Road drawbridge across the Inner Harbor Navigation Canal, mile 2.9 at New Orleans, Orleans Parish, Louisiana. The deviation is necessary in order to conduct repair and replacement of electrical system components of the bridge. These repairs are essential for the continued safe operation of the bridge. This deviation allows the bridge to remain temporarily closed to navigation for three consecutive days with four scheduled openings to facilitate the movement of vessel traffic.

DATES: This deviation is effective from 7 a.m. on Monday, February 10, 2014 through 11:59 p.m. on Wednesday, February 12, 2014.

ADDRESSES: The docket for this deviation, [USCG-2013-1081] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: Coastal Bridge Company, on behalf of the Board of Commissioners of the Port of New Orleans, requested a temporary deviation from the operating schedule on the L & N Railroad/Almonaster Road drawbridge across the Inner Harbor Navigation Canal, mile 2.9 at New Orleans, Orleans Parish, Louisiana.

The bridge has a vertical clearance of one foot above high water in the closed-to-navigation position and unlimited clearance in the open-to-navigation position. Navigation on the waterway consists of tugs with tows, small ships, fishing vessels, sailing vessels, and other recreational craft. Presently, in accordance with 33 CFR 117.5, the draw shall open on signal for the passage of vessels.

This temporary deviation allows the bascule bridge to remain closed to navigation from 7 a.m. on Monday, February 10, 2014 through 11:59 p.m. on Wednesday, February 12, 2014, except that the bridge will open to pass all waiting vessels at 6:45 a.m., 12 noon, 4 p.m. and 12 midnight daily during the closure period. During this time, repairs will be performed to the electrical systems of the bridge.

During the closure period, the bridge will not be able to open for the passage of vessels except during the scheduled periods of operation. Alternate routes are available via the Chef Menteur Pass and the Rigolets.

In accordance with 33 CFR 117.35, the draw bridge must return to its regular operating schedule immediately at the end of the effective period of this temporary deviation.

This deviation from the operating regulations is authorized under 33 CFR 117.35.

Dated: January 13, 2014.
David M. Frank,
Bridge Administrator.

[FR Doc. 2014-01940 Filed 1-30-14; 8:45 am]

BILLING CODE 9110-04-P